DEPARTMENT OF THE INTERIOR

Bureau of Land Management

[LLWYD04000.L14300000.EU0000, WYW128340]

Notice of Realty Action: Direct Sale of Public Lands in Sublette County, Wyoming

AGENCY: Bureau of Land Management, Interior.

ACTION: Notice of Realty Action.

SUMMARY: The Bureau of Land Management (BLM) proposes to sell a 29.42-acre parcel of public land in Sublette County, Wyoming, for the appraised fair market value to Magagna Bros Inc., to resolve an unintentional unauthorized use of public lands.

DATES: Comments regarding the proposed sale must be received by the BLM at the address below not later than March 2, 2009.

ADDRESSES: Send all written comments concerning this proposed sale to the Field Manager, BLM-Rock Springs Field Office, 280 Highway 191 North, Rock Springs, Wyoming 82901. Comments received in electronic form, such as e-mail or facsimile, will not be considered.

FOR FURTHER INFORMATION CONTACT: Teri Deakins, Environmental Protection Specialist, at the above address or at 307-352-0211.

SUPPLEMENTARY INFORMATION: In accordance with the provisions of 43 CFR Part 2710, the following described public land is proposed to be sold pursuant to the authority provided in Section 203 of the Federal Land Policy and Management Act of 1976 (FLPMA), as amended (43 U.S.C. 1713):

Sixth Principal Meridian, Sublette County, Wyoming

T. 27 N., R. 103 W.,

sec. 4, lot 6.

The area described contains 29.42 acres more or less.

The appraised market value for this parcel is $4,000. The proposed sale is consistent with the objectives, goals and decision of the BLM Green River Resource Management Plan, dated August 8, 1997, and the land is not required for other Federal purposes. The direct sale of this land to Magagna Bros Inc. will resolve an unintentional, unauthorized occupancy of public land managed by the BLM including residences and agricultural buildings. In accordance with 43 CFR 2710.0-6(c)(3)(iii) and 43 CFR 2711.3-3(a), direct sale procedures are appropriate to resolve an inadvertent unauthorized occupancy of the land or to protect existing equities in the land. The sale, when completed, would protect the improvements involved and resolve the inadvertent encroachment. The parcel is the minimum size possible to ensure that all the improvements are included. Magagna Bros Inc. will be allowed 30 days from the receipt of a written offer to submit a deposit of at least 20 percent of the appraised value of the parcel, and 180 days thereafter to submit the balance.

On November 3, 2008 the above described land was segregated from appropriation under the public land laws, including the mining laws. The segregative effect of this notice shall terminate upon issuance of a patent, upon publication in the Federal Register of a termination of the segregation, or 2 years from date of segregation, whichever comes first.

The following reservations, rights, and conditions will be included in the patent that may be issued for the above parcel of Federal land:

1. A reservation of all minerals to the United States;

2. A right-of-way thereon for ditches or canals constructed by the authority of the United States pursuant to the Act of August 30, 890 (43 U.S.C. 945);

3. All valid existing rights of record, including those documented on the official public land records at the time of patent issuance. Detailed information concerning the proposed land sale, including sale procedures, appraisal, planning and environmental documents, and a mineral report is available for review at the BLM, Rock Springs Field Office at the above address. Normal business hours are 7:45 a.m. to 4:30 p.m., Monday through Friday, except Federal holidays.

For a period of 45 days from the date of publication of this notice in the Federal Register, the general public and interested parties may submit written comments to the BLM Field Manager at the above address. Before including your address, phone number, e-mail address, or other personal identifying information in your comment, be advised that your entire comment—including your personal identifying information—may be publicly available at any time. While you can ask us in your comment to withhold from public review your personal identifying information, we cannot guarantee that we will be able to do so.

Any adverse comments will be reviewed by the State Director, who may sustain, vacate, or modify this realty action. In the absence of timely filed objections, this realty action will become the final determination of the Department of the Interior.

The land will not be offered for sale prior to March 16, 2009.

(Authority: 43 CFR 2711.1-2(a))

Dated: December 22, 2008.
Lance C. Porter,
Field Manager.

[FR Doc. E9-582 Filed 1-13-09; 8:45 am]

BILLING CODE 4310-22-P